FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted March 1, 2019 Thru March 31, 2019
03/01/2019
20190813 | G | Amazon.com, Inc.; Aurora Innovation, Inc.; Amazon.com, Inc.
20190819 | G | KKR Americas Fund XII (Dream) L.P.; OneStream Software Holdings Corp.; KKR Americas Fund XII (Dream) L.P.
20190853 | G | Pensare Acquisition Corp.; U.S. TelePacific Holdings Corp.; Pensare Acquisition Corp.
20190856 | G | The Toro Company; The Charles Machine Works, Inc.; The Toro Company.
20190869 | G | Mubadala Investment Company PJSC; John Laing Group plc; Mubadala Investment Company PJSC.
20190880 | G | Olympus Growth Fund VII, L.P.; Green Equity Investors V, L.P.; Olympus Growth Fund VII, L.P.
20190883 | G | USI Advantage Corp.; USRIG Holdings, LLC; USI Advantage Corp.
20190891 | G | Twin River Worldwide Holdings, Inc.; Mr. Henry B. Tippie; Twin River Worldwide Holdings, Inc.
03/04/2019
20190628 | G | OCP Trust; The Kroger Co.; OCP Trust.
03/05/2019
20190809 | G | Tiger Global Private Investment Partners IX, L.P.; Starry, Inc.; Tiger Global Private Investment Partners IX, L.P.
20190871 | G | Agnaten SE; Coty Inc.; Agnaten SE.
03/06/2019
20190835 | G | Stanley Black & Decker, Inc.; IES Alberta AIV, LP; Stanley Black & Decker, Inc.
20190872 | G | Further Global Capital Partners, L.P.; Peer Management, LLC; Further Global Capital Partners, L.P.
20190875 | G | Morgan Stanley; Solium Capital, Inc.; Morgan Stanley.
03/07/2019
20190818 | G | SoftBank Vision Fund (AIV M2) L.P.; Petuum Holdings, Ltd.; SoftBank Vision Fund (AIV M2) L.P.
20190870 | G | Clearlake Capital Partners V, L.P.; The Veritas Capital Fund VI, L.P.; Clearlake Capital Partners V, L.P.
03/08/2019
20190873 | G | Ingersoll-Rand plc; Silver II GP Holdings S.C.A.; Ingersoll-Rand plc.
20190879 | G | Legrand S.A.; Penguin Holdco, Inc.; Legrand S.A.
20190888 | G | J.M. Huber Corporation; Dunes Point Capital Investment Partners I-A, LLC; J.M. Huber Corporation.
20190889 | G | Nexus Special Situations II, L.P.; Pearson plc; Nexus Special Situations II, L.P.
20190895 | G | FirstEnergy Solutions Corp.; FirstEnergy Corp.; FirstEnergy Solutions Corp.
20190896 | G | The Myers Business Trust; SCP AVL LLC; The Myers Business Trust.
20190898 | G | SoftBank Vision Fund (AIV M2) L.P.; Nuro, Inc.; SoftBank Vision Fund (AIV M2) L.P.
20190900 | G | American Electric Power Company, Inc.; Sempra Energy; American Electric Power Company, Inc.
03/11/2019
20190903 | G | Auto-Owners Insurance Company; CIG Holding Company, Inc.; Auto-Owners Insurance Company.
20190904 | G | Tempo Holding Company, LLC; Azim Premji; Tempo Holding Company, LLC.
20190905 | G | Juniper Networks, Inc.; Mist Systems, Inc.; Juniper Networks, Inc.
20190908 | G | Mario Spanicciati; BlackLine, Inc.; Mario Spanicciati.
20190909 | G | GTCR (AP) Investors LP; Dolphin Investment, L.P.; GTCR (AP) Investors LP.
20190910 | G | Providence Equity Partners VIII L.P.; David Bernstein; Providence Equity Partners VIII L.P.
20190918 | G | Northleaf Infrastructure Capital Partners (Canada) III QPFP; Odfjell SE; Northleaf Infrastructure Capital Partners (Canada) III QPFP.
20190927 | G | The Middleby Corporation; Standex International Corporation; The Middleby Corporation.
20190928 | G | Apax IX USD L.P.; Centrica plc; Apax IX USD L.P.
20190929 | G | Astorg VII SLP; Anaqua Parent Holdings, Inc.; Astorg VII SLP.
20190932 | G | Aquiline Financial Services Fund III L.P.; Parthenon Investors III, L.P.; Aquiline Financial Services Fund III L.P.
20190933 | G | Wellspring Capital Partners VI, L.P.; Wind Point Partners VIII-A, L.P.; Wellspring Capital Partners VI, L.P.
20190934 | G | SoftBank Vision Fund (AIV M3) L.P.; Flexport, Inc.; SoftBank Vision Fund (AIV M3) L.P.
20190941 | G | Main Post Growth Capital, L.P.; Terri L. Gick; Main Post Growth Capital, L.P.
03/13/2019
20190926 | G | Falfurrias Capital Partners III, LP; DFW Capital Partners IV, L.P.; Falfurrias Capital Partners III, LP.
20190935 | G | Digital Colony Partners (Cayman), LP; Gestion Audem Inc.; Digital Colony Partners (Cayman), LP.
03/15/2019
20190922 | G | Horace Mann Educators Corporation; Bill J. and Betty Jo Ellard Secure Trust B GST Non-Exempt; Horace Mann Educators Corporation.
20190939 | G | Atlas Merchant Capital Fund LP; AqGen Island Holdings, Inc.; Atlas Merchant Capital Fund LP.
20190944 | G | Tokio Marine Holdings, Inc.; Richard Robin and Nurit Robin; Tokio Marine Holdings, Inc.
20190946 | G | Merck & Co., Inc.; Immune Design Corp.; Merck & Co., Inc.
20190950 | G | Ares Corporate Opportunities Fund V, L.P.; Audax Private Equity Fund V-A, L.P.; Ares Corporate Opportunities Fund V, L.P.
20190955 | G | Rhone Partners V L.P.; Newell Brands Inc.; Rhone Partners V L.P.
20190956 | G | JAB Consumer Fund SCA SICAR; Veterinary Specialist of North America Holdings LLC; JAB Consumer Fund SCA SICAR.
20190970 | G | Bridgepoint Europe VI Investments (2) S.a.r.l.; Kyriba Corp.; Bridgepoint Europe VI Investments (2) S.a.r.l.
20190971 | G | Madrone Partners L.P.; Uplift, Inc.; Madrone Partners L.P.
20190976 | G | Sun Life Financial Inc.; GreenOak Real Estate, LP; Sun Life Financial Inc.
20190978 | G | Jane Hsiao; OPKO Health, Inc.; Jane Hsiao.
03/18/2019
20190868 | G | Clinigen Group plc; Novartis AG; Clinigen Group plc.
20190940 | G | New Mountain Partners V (AIV-D), L.P.; Aceto Corporation; New Mountain Partners V (AIV-D), L.P.
03/19/2019
20190959 | G | Newhouse Broadcasting Corporation; Palladian Holdings, LLC; Newhouse Broadcasting Corporation.
20190966 | G | Cornell Capital Partners LP; Jiwei Robert Wang; Cornell Capital Partners LP.
03/21/2019
20190877 | G | AT&T, Inc.; Telapex, Inc.; AT&T, Inc.
20190953 | G | Marshfield Clinic Health System, Inc.; Beaver Dam Community Hospitals, Inc.; Marshfield Clinic Health System, Inc.
03/22/2019
20190964 | G | Dongjun Wang; Cornell Capital Partners LP; Dongjun Wang.
20190965 | G | Yi Qin; Cornell Capital Partners LP; Yi Qin.
20190967 | G | Jiwei Robert Wang; Cornell Capital Partners LP; Jiwei Robert Wang.
20190975 | G | Blackstone Core Equity Partners NQ L.P.; Servpro Holding Company, Inc.; Blackstone Core Equity Partners NQ L.P.
20190979 | G | FR XIII Foxtrot AIV, L.P.; The Weir Group PLC; FR XIII Foxtrot AIV, L.P.
20190982 | G | The Resolute Fund IV, L.P.; ARCH Holdco LLC; The Resolute Fund IV, L.P.
20190987 | G | Goldman Sachs Renewable Power LLC; SunPower Corporation; Goldman Sachs Renewable Power LLC.
20190992 | G | Vista Equity Partners Fund VII-A, L.P.; PlanSource Holdings, Inc.; Vista Equity Partners Fund VII-A, L.P.
20190993 | G | ACI Worldwide, Inc.; The Western Union Company; ACI Worldwide, Inc.
20190994 | G | Audax Private Equity Fund IV, L.P.; Accuform Manufacturing, Inc.; Audax Private Equity Fund IV, L.P.
20190996 | G | The Resolute Fund IV, L.P.; KSBR Holding Corp.; The Resolute Fund IV, L.P.
20191003 | G | CCMP Capital Investors III (AV-3), L.P.; BCP IV FM US LP; CCMP Capital Investors III (AV-3), L.P.
20191005 | G | James Allen Pattison; Elliott Sawmilling Co., Inc.; James Allen Pattison.
20191010 | G | Institutional Venture Partners XII, L.P.; Personal Capital Corporation; Institutional Venture Partners XII, L.P.
20191014 | G | Novacap Industries IV, L.P.; GHP Group, Inc.; Novacap Industries IV, L.P.
03/25/2019
20191004 | G | Blackbird HoldCo, Inc.; Irving Place Capital Partners III SPV, L.P.; Blackbird HoldCo, Inc.
20191008 | G | AP Drive, L.P.; EQT Infrastructure II Limited Partnership; AP Drive, L.P.
03/26/2019
20191019 | G | Concrete Pumping Holdings, Inc.; A. Keith Crawford and Melinda Crawford; Concrete Pumping Holdings, Inc.
03/29/2019
20190912 | G | George J. Pedersen; Kforce Inc.; George J. Pedersen.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-08081 Filed 4-22-19; 8:45 am]

BILLING CODE 6750-01-P